FEDERAL ELECTION COMMISSION

[Notice 2011-04]

Filing Dates for the California Special Election in the 36th Congressional District

AGENCY: Federal Election Commission.

ACTION: Notice of filing dates for special election.

SUMMARY: California has scheduled a special general election on May 17, 2011, to fill the U.S. House of Representatives seat in the Thirty-Sixth Congressional District vacated by Representative Jane Harman. Under California law, a majority winner in a special election is declared elected. Should no candidate achieve a majority vote, a special runoff election will be held on July 12, 2011, between the top two vote-getters.

Political committees participating in the California special elections are required to file pre- and post-election reports. Filing deadlines for these reports are affected by whether one or two elections are held.

FOR FURTHER INFORMATION CONTACT: CONTACT: Mr. Kevin R. Salley, Information Division, 999 E Street, NW., Washington, DC 20463; Telephone: (202) 694-1100; Toll Free (800) 424-9530.

SUPPLEMENTARY INFORMATION:

Principal Campaign Committees

All principal campaign committees of candidates who participate in the California Special General and Special Runoff Elections shall file a 12-day Pre-General Report on May 5, 2011; a Pre-Runoff Report on June 30, 2011; and a Post-Runoff Report on August 11, 2011. (See chart below for the closing date for each report).

If only one election is held, all principal campaign committees of candidates in the Special General Election shall file a 12-day Pre-General Report on May 5, 2011; and a Post-General Report on June 16, 2011. (See chart below for the closing date for each report).

Note that these reports are in addition to the campaign committee's quarterly filings in July and October. (See chart below for the closing date for each report).

Unauthorized Committees (PACs and Party Committees)

Political committees filing on a semi-annual basis in 2011 are subject to special election reporting if they make previously undisclosed contributions or expenditures in connection with the California Special General Election and/or Special Runoff Election by the close of books for the applicable report(s). (See chart below for the closing date for each report).

Committees filing monthly that make contributions or expenditures in connection with the California Special General or Special Runoff Election will continue to file according to the monthly reporting schedule.

Additional disclosure information in connection with the California Special Election may be found on the FEC Web site at http://www.fec.gov/info/report_dates_2011.shtml.

Disclosure of Lobbyist Bundling Activity

Campaign committees, party committees and Leadership PACs that are otherwise required to file reports in connection with the special elections must simultaneously file FEC Form 3L if they receive two or more bundled contributions from lobbyists/registrants or lobbyist/registrant PACs that aggregate in excess of $16,200 during the special election reporting periods (see charts below for closing date of each period). 11 CFR 104.22(a)(5)(v).

Calendar of Reporting Dates for California Special Election
Report | Close of books ¹ | Reg./Cert. & overnight mailing deadline | Filing deadline
IF ONLY THE SPECIAL GENERAL IS HELD (05/17/11), QUARTERLY FILING POLITICAL COMMITTEES INVOLVED MUST FILE
Pre-General | 04/27/11 | 05/02/11 | 05/05/11
Post-General | 06/06/11 | 06/16/11 | 06/16/11
July Quarterly | 06/30/11 | 07/15/11 | 07/15/11

Report | Close of books ¹ | Reg./Cert. & overnight mailing deadline | Filing deadline
IF ONLY THE SPECIAL GENERAL IS HELD (05/17/11), SEMI-ANNUAL FILING POLITICAL COMMITTEES INVOLVED MUST FILE
Pre-General | 04/27/11 | 05/02/11 | 05/05/11
Post-General | 06/06/11 | 06/16/11 | 06/16/11
Mid-Year | 06/30/11 | 07/31/11 | ² 07/31/11

Report | Close of books ¹ | Reg./Cert. & overnight mailing deadline | Filing deadline
IF TWO ELECTIONS ARE HELD, QUARTERLY FILING POLITICAL COMMITTEES INVOLVED ONLY IN THE SPECIAL GENERAL (05/17/11) MUST FILE
Pre-General | 04/27/11 | 05/02/11 | 05/05/11
July Quarterly | 06/30/11 | 07/15/11 | 07/15/11

Report | Close of books ¹ | Reg./Cert. & overnight mailing deadline | Filing deadline
IF TWO ELECTIONS ARE HELD, SEMI-ANNUAL FILING POLITICAL COMMITTEES INVOLVED ONLY IN THE SPECIAL GENERAL (05/17/11) MUST FILE
Pre-General | 04/27/11 | 05/02/11 | 05/05/11
Mid-Year | 06/30/11 | 07/31/11 | ² 07/31/11

Report | Close of books ¹ | Reg./Cert. & overnight mailing deadline | Filing deadline
QUARTERLY FILING POLITICAL COMMITTEES INVOLVED IN THE SPECIAL GENERAL (05/17/11) AND SPECIAL RUNOFF (07/12/11) MUST FILE
Pre-General | 04/27/11 | 05/02/11 | 05/05/11
Pre-Runoff | 06/22/11 | 06/27/11 | 06/30/11
July Quarterly | 06/30/11 | 07/15/11 | 07/15/11
Post-Runoff | 08/01/11 | 08/11/11 | 08/11/11
October Quarterly | 09/30/11 | 10/15/11 | ² 10/15/11

Report | Close of books ¹ | Reg./Cert. & overnight mailing deadline | Filing deadline
SEMI-ANNUAL FILING POLITICAL COMMITTEES INVOLVED IN THE SPECIAL GENERAL (05/17/11) AND SPECIAL RUNOFF (07/12/11) MUST FILE
Pre-General | 04/27/11 | 05/02/11 | 05/05/11
Pre-Runoff | 06/22/11 | 06/27/11 | 06/30/11
Mid-Year | 06/30/11 | 07/31/11 | ² 07/31/11
Post-Runoff | 08/01/11 | 08/11/11 | 08/11/11
Year-End | 12/31/11 | 01/31/12 | 01/31/12

Report | Close of books ¹ | Reg./Cert. & overnight mailing deadline | Filing deadline
QUARTERLY FILING POLITICAL COMMITTEES INVOLVED ONLY IN THE SPECIAL RUNOFF (07/12/11) MUST FILE
Pre-Runoff | 06/22/11 | 06/27/11 | 06/30/11
July Quarterly | 06/30/11 | 07/15/11 | 07/15/11
Post-Runoff | 08/01/11 | 08/11/11 | 08/11/11
October Quarterly | 09/30/11 | 10/15/11 | ² 10/15/11

Report | Close of books ¹ | Reg./Cert. & overnight mailing deadline | Filing deadline
SEMI-ANNUAL FILING POLITICAL COMMITTEES INVOLVED ONLY IN THE SPECIAL RUNOFF (07/12/11) MUST FILE
Pre-Runoff | 06/22/11 | 06/27/11 | 06/30/11
Mid-Year | 06/30/11 | 07/31/11 | ² 07/31/11
Post-Runoff | 08/01/11 | 08/11/11 | 08/11/11
Year-End | 12/31/11 | 01/31/12 | 01/31/12
¹ These dates indicate the beginning and the end of the reporting period. A reporting period always begins the day after the closing date of the last report filed. If the committee is new and has not previously filed a report, the first report must cover all activity that occurred before the committee registered as a political committee with the Commission up through the close of books for the first report due.
² Notice that this filing deadline falls on a weekend. Filing deadlines are not extended when they fall on nonworking days. Accordingly, reports filed by methods other than Registered, Certified or Overnight Mail, or electronically, must be received before the Commission's close of business on the last business day before the deadline.

On behalf of the Commission.
Dated: March 21, 2011.
Cynthia L. Bauerly,
Chair, Federal Election Commission.

[FR Doc. 2011-7155 Filed 3-25-11; 8:45 am]

BILLING CODE 6715-01-P